DEPARTMENT OF LABOR

Employment and Training Administration

[TA-W-59,287]

SNC Manufacturing Company, Inc., Oshkosh, WI; Notice of Termination of Investigation

Pursuant to section 221 of the Trade Act of 1974, as amended, an investigation was initiated on April 27, 2006, in response to a worker petition filed by a union official on behalf of workers at SNC Manufacturing Company, Inc., Oshkosh, Wisconsin.

The petitioner has requested that the petition be withdrawn. Consequently, the investigation has been terminated.

Signed at Washington, DC this 8th day of May, 2006.
Elliott S. Kushner,
Certifying Officer, Division of Trade Adjustment Assistance.

[FR Doc. E6-7943 Filed 5-23-06; 8:45 am]

BILLING CODE 4510-30-P